SMALL BUSINESS ADMINISTRATION

[Declaration of Disaster #3640]

State of Tennessee

Cocke and Rhea Counties and the contiguous counties of Bledsoe, Cumberland, Greene, Hamblin, Hamilton, Jefferson, Meigs, Roane, and Sevier in the State of Tennessee; and Haywood, Madison, and Swain Counties, North Carolina constitute a disaster area as a result of heavy rains associated with Hurricane Ivan on September 16-20, 2004. Applications for loans for physical damage as a result of this disaster may be filed until the close of business on December 14, 2004 and for economic injury until the close of business on July 15, 2005 at the address listed below or other locally announced locations: U.S. Small Business Administration, Disaster Area 2 Office, One Baltimore Place, Suite 300, Atlanta, GA 30308.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 364008 for Tennessee and 364108 for North Carolina. The number assigned to this disaster for economic injury damage is 9AF200 for Tennessee and 9AF300 for North Carolina.

(Catalog of Federal Domestic Assistance Program Nos. 59002 and 59008.)
Dated: October 15, 2004.
Hector V. Barreto,
Administrator.

[FR Doc. 04-23630 Filed 10-21-04; 8:45 am]

BILLING CODE 8025-01-P